DEPARTMENT OF THE TREASURY

United States Mint

Meeting of Notification of Citizens Coinage Advisory Committee

ACTION: Notification of April 26, 2012 Public Meeting.

SUMMARY: Pursuant to United States Code, Title 31, section 5135(b)(8)(C), the United States Mint announces the Citizens Coinage Advisory Committee (CCAC) public meeting scheduled for April 26, 2012.

Date: April 26, 2012.

Time: 10 a.m. to 5 p.m.

Location: Conference Room A, United States Mint, 801 9th Street NW., Washington, DC 20220.

Subject: Review and consideration of reverse candidate designs for the 2013 Girl Scouts of America Commemorative Coin Program, background research for the reverse designs of the 2013 First Spouse Gold Coins and Medals, and designs for the Code Talkers Recognition Congressional Gold Medals. In addition, the CCAC plans a discussion relating to the 2011 CCAC Annual Report and a presentation by member Michael Bugeja on historical coin legends, mottos, dates, symbols and devices.

Interested Persons Should Call the CCAC HOTLINE at (202) 354-7502 for the Latest Update on Meeting Time and Room Location

In accordance with 31 U.S.C. 5135, the CCAC:

• Advises the Secretary of the Treasury on any theme or design proposals relating to circulating coinage, bullion coinage, Congressional Gold Medals, and national and other medals.

• Advises the Secretary of the Treasury with regard to the events, persons, or places to be commemorated by the issuance of commemorative coins in each of the five calendar years succeeding the year in which a commemorative coin designation is made.

• Makes recommendations with respect to the mintage level for any commemorative coin recommended.

FOR FURTHER INFORMATION CONTACT: Andy Fishburn, United States Mint Liaison to the CCAC; 801 9th Street NW.; Washington, DC 20220; or call 202-354-7200.

Any member of the public interested in submitting matters for the CCAC's consideration is invited to submit them by fax to the following number: 202-756-6525.

Authority: 31 U.S.C. 5135(b)(8)(C).

Dated: April 4, 2012.
Richard A. Peterson,
Deputy Director, United States Mint.

[FR Doc. 2012-8543 Filed 4-9-12; 8:45 am]

BILLING CODE P